DEPARTMENT OF ENERGY

Federal Energy Regulatory Commission

Combined Notice of Filings #1

Take notice that the Commission received the following electric corporate filings:

Docket Numbers: EC14-68-000.

Applicants: Upper Peninsula Power Company, Integrys Energy Group, Inc., Balfour Beatty Infrastructure Partners GP Limited.

Description: Joint Application for Authorization under Section 203 of the Federal Power Act and Request for Shortened Comment Period and Expedited Action of Upper Peninsula Power Company, et al.

Filed Date: 3/14/14.

Accession Number: 20140314-5173.

Comments Due: 5 p.m. ET 4/4/14.

Take notice that the Commission received the following electric rate filings:

Docket Numbers: ER10-2249-003.

Applicants: Portland General Electric Company.

Description: Amendment to January 30, 2014 Notice of Non-Material Change in Status of Portland General Electric Company.

Filed Date: 3/14/14.

Accession Number: 20140314-5090.

Comments Due: 5 p.m. ET 4/4/14.

Docket Numbers: ER10-2290-002; ER10-2187-001.

Applicants: Avista Corporation.

Description: Amendment to July 1, 2013 Triennial Market Power Update for the Northwest Region of the Avista Corporation, et. al.

Filed Date: 10/16/13.

Accession Number: 20131016-5174.

Comments Due: 5 p.m. ET 3/27/14.

Docket Numbers: ER10-2374-004; ER10-1533-005.

Applicants: Puget Sound Energy, Inc., Macquarie Energy LLC.

Description: Third Amendment to June 28, 2013 Triennial Updated Market Power Analysis in the Northwest Region of Puget Sound Energy, Inc., et. al.

Filed Date: 3/14/14.

Accession Number: 20140314-5179.

Comments Due: 5 p.m. ET 4/4/14.

Docket Numbers: ER14-58-002.

Applicants: The Potomac Edison Company, West Penn Power Company, Monongahela Power Company, PJM Interconnection, L.L.C.

Description: FirstEnergy and Potomac Edison Co submit compliance filing per 11/21/2013 Order to be effective 2/14/2014.

Filed Date: 3/14/14.

Accession Number: 20140314-5124.

Comments Due: 5 p.m. ET 4/4/14.

Docket Numbers: ER14-1309-000.

Applicants: Singer Energy Group, LLC.

Description: Supplement to February 11, 2014 Singer Energy Group, LLC tariff filing.

Filed Date: 3/14/14.

Accession Number: 20140314-5074.

Comments Due: 5 p.m. ET 3/24/14.

Docket Numbers: ER14-1395-001.

Applicants: Southwest Power Pool, Inc.

Description: 2852 Substitute—The Energy Authority & Westar Att AM to be effective 3/1/2014.

Filed Date: 3/18/14.

Accession Number: 20140318-5054.

Comments Due: 5 p.m. ET 4/8/14.

Docket Numbers: ER14-1461-001.

Applicants: PJM Interconnection, L.L.C.

Description: Errata to Correct OATT Att. DD Section 5.14 to be effective 5/10/2014.

Filed Date: 3/14/14.

Accession Number: 20140314-5107.

Comments Due: 5 p.m. ET 3/31/14.

Docket Numbers: ER14-1508-000.

Applicants: Public Service Company of Colorado.

Description: 2014-3-14_Rev Sch 7—Clean-up to be effective 1/1/2013.

Filed Date: 3/14/14.

Accession Number: 20140314-5117.

Comments Due: 5 p.m. ET 4/4/14.

Docket Numbers: ER14-1509-000.

Applicants: Orange and Rockland Utilities, Inc.

Description: Orange and Rockland Undergrounding Rate 3.14.14 to be effective 4/1/2014.

Filed Date: 3/14/14.

Accession Number: 20140314-5125.

Comments Due: 5 p.m. ET 4/4/14.

Docket Numbers: ER14-1510-000.

Applicants: RE Rosamond One LLC.

Description: Order No. 784 Compliance Filing to be effective 3/15/2014.

Filed Date: 3/14/14.

Accession Number: 20140314-5134.

Comments Due: 5 p.m. ET 4/4/14.

Docket Numbers: ER14-1511-000.

Applicants: RE Rosamond Two LLC.

Description: Order No. 784 Compliance Filing to be effective 3/15/2014.

Filed Date: 3/14/14.

Accession Number: 20140314-5135.

Comments Due: 5 p.m. ET 4/4/14.

Docket Numbers: ER14-1512-000.

Applicants: California Independent System Operator Corporation.

Description: 2014-03-14_IID_DTBAOA to be effective 5/15/2014.

Filed Date: 3/14/14.

Accession Number: 20140314-5145.

Comments Due: 5 p.m. ET 4/4/14.

Docket Numbers: ER14-1513-000.

Applicants: Southwest Power Pool, Inc.

Description: 2825 KMEA and Westar Energy Meter Agent Agreement to be effective 3/1/2014.

Filed Date: 3/14/14.

Accession Number: 20140314-5164.

Comments Due: 5 p.m. ET 4/4/14.

Docket Numbers: ER14-1514-000.

Applicants: Southern California Edison Company.

Description: SGIA & Distribution Service Agreement with Adelanto Greenworks A LLC to be effective 5/17/2014.

Filed Date: 3/18/14.

Accession Number: 20140317-5001.

Comments Due: 5 p.m. ET 4/8/14.

Docket Numbers: ER14-1515-000.

Applicants: Alcoa Power Generating Inc.

Description: Request for Waiver of FERC Form No. 1 and Relevant Part 141 Requirements of Alcoa Power Generating Inc.

Filed Date: 3/14/14.

Accession Number: 20140314-5185.

Comments Due: 5 p.m. ET 4/4/14.

Docket Numbers: ER14-1516-000.

Applicants: Cleco Evangeline LLC.

Description: Cancellation of Cleco Evangeline LLC MBR tariff to be effective 3/19/2014.

Filed Date: 3/18/14.

Accession Number: 20140318-5043.

Comments Due: 5 p.m. ET 4/8/14.

Docket Numbers: ER14-1517-000.

Applicants: Public Service Company of New Mexico.

Description: Cancellation of Service Schedule I and Operating Procedure 9 of the EPE GFA to be effective 6/1/2014.

Filed Date: 3/18/14.

Accession Number: 20140318-5100.

Comments Due: 5 p.m. ET 4/8/14.

Docket Numbers: ER14-1518-000.

Applicants: Public Service Company of New Mexico.

Description: Transmission service agreement between PNM and EPE to be effective 6/1/2014.

Filed Date: 3/18/14.

Accession Number: 20140318-5101.

Comments Due: 5 p.m. ET 4/8/14.

Take notice that the Commission received the following electric securities filings:

Docket Numbers: ES14-28-000.

Applicants: Upper Peninsula Power Company.

Description: Application for Authorization to Issue Securities under Section 204 of the Federal Power Act of Upper Peninsula Power Company.

Filed Date: 3/14/14.

Accession Number: 20140314-5176.

Comments Due: 5 p.m. ET 4/4/14.

Take notice that the Commission received the following electric reliability filings

Docket Numbers: RD14-8-000.

Applicants: North American Electric Reliability Corporation.

Description: Petition of the North American Electric Reliability Corporation for Approval of Interpretation of Regional Reliability Standard TOP-007-WECC-1.

Filed Date: 3/12/14.

Accession Number: 20140312-5338.

Comments Due: 5 p.m. ET 4/17/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 18, 2014.
Nathaniel J. Davis, Sr.,
Deputy Secretary.

[FR Doc. 2014-06531 Filed 3-24-14; 8:45 am]

BILLING CODE 6717-01-P